FEDERAL COMMUNICATIONS COMMISSION

[CC Docket No. 92-237; DA 02-1026]

Next Meeting of the North American Numbering Council

AGENCY: Federal Communications Commission.

ACTION: Notice.

SUMMARY: On May 3, 2002, the Commission released a public notice announcing the May 21-22, 2002, meeting and agenda of the North American Numbering Council (NANC). The intended effect of this action is to make the public aware of the NANC's next meeting and its agenda.

DATES: The North American Numbering Council (NANC) has scheduled a meeting to be held Tuesday, May 21, 2002, from 8:30 a.m. until 5 p.m., and on Wednesday, May 22, 2002, from 8:30 a.m., until 12 noon (if required).

ADDRESSES: The meeting will be held at the Federal Communications Commission, Portals II, 445 12th Street, SW., Room TW-C305, Washington, DC.

FOR FURTHER INFORMATION CONTACT: Deborah Blue, Special Assistant to the Designated Federal Officer (DFO) at (202) 418-1466 or dblue@fcc.gov. The address is: Telecommunications Access Policy Division, Wireline Competition Bureau, Federal Communications Commission, The Portals II, 445 12th Street, SW., Suite 5-A420, Washington, DC 20554. The fax number is: (202) 418-2345. The TTY number is: (202) 418-0484.

SUPPLEMENTARY INFORMATION: Released: May 3, 2002.

This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Deborah Blue at the address under FOR FURTHER INFORMATION CONTACT, stated above.

Proposed Agenda—Tuesday, May 21, 2002

1. Announcements and Recent News

2. Approve Minutes

—Meeting of March 12, 2002

3. Report of North American Numbering Plan Administrator (NANPA)

—NPA Exhaust Projection

—NANP Exhaust Assumptions

—CO Code Activity

—Intermediate Numbers

—Returned Codes with Ported TNs

4. Report of NANP Expansion/Optimization IMG

5. Status of Industry Numbering Committee activities

6. Report of NANPA Oversight Working Group

—Evaluation of survey results

—Determine which industry association had best survey participation rate: each association should make its claim (award at July meeting)

7. Report of the Local Number Portability Administration (LNPA) Working Group

Wireless Number Portability Operations (WNPO) Subcommittee

—WNPO/CTIA: Status of meeting the Nov. 24, 2002 pooling and porting deadline

8. Report of National Thousands-Block Pooling Administrator

9. Report of NAPM LLC

10. Report from NBANC

11. Report of Cost Recovery Working Group

12. Report of E-Conferencing Subcommittee

13. Steering Committee

—Table of NANC Projects

14. Report of Steering Committee

15. Action Items

16. Public Participation (5 minutes each)

17. Other Business

Adjourn no later than 5 p.m.

Wednesday, May 22, 2002 (if required)

18. Complete any unfinished Agenda Items

19. Other Business

Adjourn (no later than 12 Noon)

Next Meeting: July 17-18, 2002

Federal Communications Commission.
Cheryl L. Callahan,
Assistant Chief, Telecommunications Access Policy Division, Wireline Competition Bureau.

[FR Doc. 02-11469 Filed 5-7-02; 8:45 am]

BILLING CODE 6712-01-U